LEGAL SERVICES CORPORATION

Sunshine Act Meetings

TIME AND DATE: The Delivery of Legal Services, Communications Subcommittee of the Institutional Advancement Committee, Operations and Regulations, Governance and Performance Review, and Institutional Advancement Committees of the Legal Services Corporation Board of Directors will meet virtually on October 7, October 8, and October 15, 2024. On October 7, the Delivery of Legal Services Committee meeting will begin at 2:30 p.m. ET and will continue until the conclusion of the Committee's agenda. The Communications Subcommittee meeting will begin at 3:30 p.m. ET and will continue until the conclusion of the Committee's agenda. The Operations and Regulations Committee meeting will begin at 4:00 p.m. ET and will continue until the conclusion of the Committee's agenda. On October 8, the Governance and Performance Review Committee meeting will begin at 10:30 a.m. ET and will continue until the conclusion of the Committee's agenda. On October 15, the Institutional Advancement Committee meeting will begin at 10:00 a.m. ET and will continue until the conclusion of the Committee's agenda.

PLACE:

Public Notice of Virtual Meeting: LSC will conduct the October 7, October 8, and October 15, 2024, meetings via Zoom.

Public Observation: Unless otherwise noted herein, the Delivery of Legal Services, Communications Subcommittee, Operations and Regulations, Governance and Performance Review, and Institutional Advancement Committees meeting will be open to public observation via Zoom. Members of the public who wish to participate remotely in the public proceedings may do so by following the directions provided below.

Directions for Open Sessions

Monday, October 7, 2024

• To join the Zoom meeting by computer, please use this link: https://lsc-gov.zoom.us/j/85004691782?pwd=dx4BrVhbSCjsauDNZzK263SSJhXsVX.1&from=addon.

○ Meeting ID: 850 0469 1782

○ Passcode: 629262

• To join the Zoom meeting with one tap from your mobile phone, please click dial:

○ +13017158592,,88527065662# US (Washington DC)

○ +16468769923,,88527065662# US (New York)

• To join the Zoom meeting by telephone, please dial one of the following numbers:

○ +1 301 715 8592 US (Washington, DC)

○ +1 646 876 9923 US (New York)

○ +1 312 626 6799 US (Chicago)

○ +1 346 248 7799 US (Houston)

○ +1 408 638 0968 US (San Jose)

○ +1 669 900 6833 US (San Jose)

○ +1 253 215 8782 US (Tacoma)

○ ID: 850 0469 1782

○ Passcode: 629262

Tuesday, October 8, 2024

• To join the Zoom meeting by computer, please use this link: https://lsc-gov.zoom.us/j/83096212785?pwd=2TrQb2FEQXYRoL1wo7crxRoEwJJGiX.1&from=addon.

○ Meeting ID: 830 9621 2785

○ Passcode: 573819

• To join the Zoom meeting with one tap from your mobile phone, please click dial:

○ +13017158592,,88527065662# US (Washington DC)

○ +16468769923,,88527065662# US (New York)

• To join the Zoom meeting by telephone, please dial one of the following numbers:

○ +1 301 715 8592 US (Washington, DC)

○ +1 646 876 9923 US (New York)

○ +1 312 626 6799 US (Chicago)

○ +1 346 248 7799 US (Houston)

○ +1 408 638 0968 US (San Jose)

○ +1 669 900 6833 US (San Jose)

○ +1 253 215 8782 US (Tacoma)

○ ID: 830 9621 2785

○ Passcode: 573819

Tuesday, October 15, 2024

• To join the Zoom meeting by computer, please use this link: https://lsc-gov.zoom.us/j/86374138697?pwd=XRNgukkkOmfapS3wP5OMp24vwt76uF.1&from=addon.

○ Meeting ID: 863 7413 8697

○ Passcode: 977809

• To join the Zoom meeting with one tap from your mobile phone, please click dial:

○ +13017158592,,88527065662# US (Washington DC)

○ +16468769923,,88527065662# US (New York)

• To join the Zoom meeting by telephone, please dial one of the following numbers:

○ +1 301 715 8592 US (Washington, DC)

○ +1 646 876 9923 US (New York)

○ +1 312 626 6799 US (Chicago)

○ +1 346 248 7799 US (Houston)

○ +1 408 638 0968 US (San Jose)

○ +1 669 900 6833 US (San Jose)

○ +1 253 215 8782 US (Tacoma)

○ ID: 863 7413 8697

○ Passcode: 977809

Once connected to Zoom, please immediately mute your computer or telephone. Members of the public are asked to keep their computers or telephones muted to eliminate background noise. To avoid disrupting the meetings, please refrain from placing the call on hold if doing so will trigger recorded music or other sound.

From time to time, the Committee Chairs may solicit comments from the public. To participate in the meeting during public comment, use the `raise your hand' or `chat' functions in Zoom and wait to be recognized by the Chair before stating your questions and/or comments.

MATTERS TO BE CONSIDERED:

Meeting Schedule

Monday, October 7, 2024

Start Time: 2:30 p.m. ET

Delivery of Legal Services Committee

Open to the Public

1. Approval of Agenda

2. Approval of Minutes of the Committee's Open Session Meeting on July 23, 2024

3. LSC Performance Criteria Revisions Update

4. Office of Training and Technical Assistance Update

5. Years of Service Project Update

6. Comments from Client Leadership Council

7. Public Comment

8. Consider and Act on Other Business

9. Consider and Act on a Motion to Adjourn the Meeting

Monday, October 7, 2024

Start Time: 3:30 p.m. ET

Communications Subcommittee

Open to the Public

1. Approval of Agenda

2. Approval of Minutes of the Subcommittee's Open Session Meeting on July 24, 2024

3. Communications and Social Media Update

4. Update on Dynamic Strategic Communication Plan for 2025

5. Public Comment

6. Consider and Act on Other Business

7. Consider and Act on Motion to Adjourn the Meeting

Monday, October 7, 2024

Start Time: 4:00 p.m. ET

Operations and Regulations Committee

Open to the Public

1. Approval of agenda

2. Approval of minutes of the Committee's Open Session meeting on July 24, 2024

3. Report on Action Memo for 45 CFR Parts 1621—Client Grievance Procedures and 1624—Prohibition Against Discrimination on the Basis of Disability

4. Public comment

5. Consider and act on other business

6. Consider and act on adjournment of meeting

Tuesday, October 8, 2024

Start Time: 10:30 a.m. ET

Governance and Performance Review Committee

Open to the Public

1. Approval of Agenda

2. Approval of Minutes of the Committee's Meeting on June 27, 2024

3. Report on U.S. Department of Justice's Access to Justice Office and White House Legal Aid Interagency Roundtable (LAIR)

4. Update on White House Transition Plans

5. Preview of Annual Board and Committee Evaluation Process

6. Public Comment

7. Consider and Act on Other Business

8. Consider and Act on Motion to Adjourn the Committee Meeting

Tuesday, October 15, 2024

Start Time: 10:00 a.m. ET

Institutional Advancement Committee

Open to the Public

1. Approval of Agenda

2. Approval of Minutes of the Institutional Advancement Committee's Open Session Meeting on July 11, 2024

3. Update on Leaders Council and Emerging Leaders Council

4. Development Report

5. Public Comment

6. Consider and Act on Other Business

7. Consider and Act on Motion to Adjourn the Open Session Meeting and Proceed to a Closed Session

Closed Session

8. Approval of Minutes of the Institutional Advancement Committee's Closed Session Meeting on July 11, 2024

9. Development Report

10. Consider and Act on Motion to Approve Leaders Council and Emerging Leaders Council Invitees

11. Consider and Act on Other Business

12. Consider and Act on Motion to Adjourn the Meeting

CONTACT PERSON FOR MORE INFORMATION: Cheryl DuHart, Administrative Coordinator, at (202) 295-1621. Questions may also be sent by electronic mail to duhartc@lsc.gov.

Non-Confidential Meeting Materials: Non-confidential meeting materials will be made available in electronic format at least 24 hours in advance of the meeting on the LSC website, at https://www.lsc.gov/about-lsc/board-meeting-materials.

(Authority: 5 U.S.C. 552b).

Dated: September 26, 2024.
Stefanie Davis,
Deputy General Counsel, Legal Services Corporation.

[FR Doc. 2024-22533 Filed 9-26-24; 4:15 pm]

BILLING CODE 7050-01-P